DEPARTMENT OF THE INTERIOR

Bureau of Land Management

[WY-030-1310-DB]

Notice of Availability of Final Environmental Impact Statement for the Atlantic Rim Natural Gas Development Project

AGENCY: Bureau of Land Management, Interior.

ACTION: Notice of Availability of a Final Environmental Impact Statement (FEIS) for the Atlantic Rim Natural Gas Development Project, Rawlins, Wyoming.

SUMMARY: The Bureau of Land Management (BLM) announces the availability of the Atlantic Rim Natural Gas Development Project FEIS. The FEIS analyzes the environmental consequences of a proposed natural gas development and production operations on the 270,080 acres Atlantic Rim project area. The area is located within the administrative jurisdiction of the BLM Rawlins Field Office, and runs in an arc between Rawlins and Baggs in Townships 12-20 North, Ranges 89-93 West, Sixth Principal Meridian, Carbon County, Wyoming.

DATES: The FEIS will be available for review and comment for 30 calendar days starting on the date the Environmental Protection Agency (EPA) publishes its Notice of Availability in the Federal Register. The BLM can best use your comments and resource information submissions within the 30-day review period provided above.

ADDRESSES: A copy of the FEIS has been sent to affected Federal, State, and local government agencies and to interested parties. The document may be available electronically on the following Web site: http://www.wy.blm.gov/rfo/nepa.htm. If you are interested in viewing material referenced or posted to the BLM Web site, please contact the Rawlins Field Office as to its availability.

Copies of the FEIS will be available for public inspection at the following locations:

• Bureau of Land Management, Wyoming State Office, 5353 Yellowstone Road, Cheyenne, Wyoming 82003

• Bureau of Land Management, Rawlins Field Office, 1300 N. Third Street, Rawlins, Wyoming 82301

FOR FURTHER INFORMATION CONTACT: Mr. David Simons, Project Lead, BLM Rawlins Field Office, 1300 N. Third Street, Rawlins, WY 82301. Requests for information may be sent electronically to: atlantic_rim_eis_wymail@blm.gov. Please submit electronic comments with “Attn: Atlantic Rim Project Manager” in the subject line and avoid using special characters and any form of encryption. Mr. Simons may also be reached at (307) 328-4328.

SUPPLEMENTARY INFORMATION: Anadarko E & P Company, LP, is the lead proponent for a proposal to explore for and develop natural gas resources in the Atlantic Rim project area. Double Eagle Petroleum and Mining Company and Warren Resources, Inc., are also participating in this proposal. Collectively, the Operators propose to drill up to 2,000 wells; 1,800 completed to coal formations and 200 to other geologic targets for natural gas. Drilling would occur within the Atlantic Rim Project Area over the next 20 years with Life-of-Project expected to be 30 to 50 years. Well density completed in coal formations would be up to 8 wells per 640-acre section of land; wells in other geologic formations would be spaced no tighter than four wells per section.

Prior to the initiation of this project approximately 185 oil and gas wells were drilled or approved for drilling within the Atlantic Rim project area. Consistent with an interim drilling plan, six exploratory plans of development (pods) of up to 24 wells each were completed in areas believed to have potential for commercial quantities of natural gas. The proposed action was developed based on the results of exploratory drilling conducted by the Operators within the project area.

On June 26, 2001, the BLM published its Notice of Intent to prepare an EIS for the Atlantic Rim Natural Gas Development Project in the Federal Register. Issues and concerns were identified during scoping and throughout the NEPA process. The Atlantic Rim FEIS focuses on impacts to air quality, biological and physical resources, transportation, socio-economics, and cumulative effects. In compliance with Section 7(c) of the Endangered Species Act, as amended, the FEIS includes a biological assessment for the purpose of identifying endangered or threatened species which may be affected by the Proposed Action.

On December 16, 2005, the BLM published its Notice of Availability of the Draft EIS for this project in the Federal Register. The 60-day public comment period ended on February 16, 2006. Over 60,000 comments were received on the Draft EIS.

The Atlantic Rim FEIS analyzed four alternatives in detail:

1. The Proposed Action Alternative,

2. Alternative A—The No Action Alternative, which means the project as proposed would be rejected by the BLM;

3. Alternative B—See discussion below;

4. Alternative C—Special protection of sensitive resources; and,

5. Alternative D—Natural gas development with disturbance limitations.

The agency's preferred alternative is Alternative D.

Based on comments received to the Draft EIS, the potential for long delays in the allowable development and recovery of oil and gas resources held by the leaseholders and the requirement that the BLM allow reasonable access across Federal lands to private and state lands, Alternative B was eliminated from further study in the FEIS.

The Atlantic Rim FEIS includes the analysis of the impacts of the proposed development of 2,000 natural gas wells, Alternative A and the construction of access roads, pipelines, and other ancillary facilities such as a gas processing plant, compressor stations, and water disposal sites. If selected, Alternative B, the no action alternative BLM would reject the proposed action as submitted. To address concerns regarding the potential impacts of the activities as proposed, Alternative C provides for intense mitigation measures or limitations limited where sensitive resource values exist or overlap with the objective of reducing impacts. Examples of sensitive resources include threatened, endangered, and sensitive wildlife, fish and plant species; fragile soils; and unique cultural features. Respondents commenting on Alternative C indicated that the mitigation measures intended to minimize the level of disturbance and restrictions on number of well pad may render the project as technically and economically unfeasible. Alternative D is similar to Alternative A. The Operators would be limited in by the extent of surface disturbance that may occur at any one time and as quantified by a pre-determined percentage of the total project area.

How To Submit Comments

The BLM welcomes your comments on the Atlantic Rim FEIS. Comments may be submitted as follows:

1. Comments may be electronically mailed to atlantic_rim_eis_wymail@blm.gov. Please submit electronic comments with “Attn: Atlantic Rim Project Manager” in the subject line and avoid using special characters and any form of encryption. Please do not include any attachments, as the BLM e-mail security system will not accept them.

2. Written comments may be mailed or delivered to the BLM at: Atlantic Rim FEIS, Project Manager, Bureau of Land Management Rawlins Field Office, P.O. Box 2407, Rawlins, WY 82301.

The BLM will only accept comments on the Atlantic Rim FEIS if they are submitted using one of the methods described above. To be given consideration by BLM, all FEIS comment submittals must include the commenter's name and street address.

Our practice is to make comments, including the names and mailing addresses of each respondent, available for public review at the BLM office listed above during business hours (7:45 a.m. to 4:30 p.m.), Monday through Friday, except for Federal holidays. Your comments may be disclosed as part of the EIS process. Individual respondents may request confidentiality. If you wish to withhold any information from public review or from disclosure under the Freedom of Information Act, you must state this prominently at the beginning of your written comments. Such requests will be honored to the extent allowed by law. We will not consider anonymous comments. All submissions from organizations or businesses will be made available for public inspection in their entirety.

August 3, 2006.
Donald A. Simpson,
Acting State Director.

[FR Doc. E6-12952 Filed 8-8-06; 8:45 am]

BILLING CODE 4310-22-P